DEPARTMENT OF ENERGY

Federal Energy Regulatory Commission

Combined Notice of Filings

Take notice that the Commission has received the following Natural Gas Pipeline Rate and Refund Report filings:

Filings Instituting Proceedings

Docket Numbers: RP12-129-000.

Applicants: Gulf South Pipeline Company, LP.

Description: Centerpoint 34682 to Sequent 39298 to be effective 11/1/2011.

Filed Date: 11/02/2011.

Accession Number: 20111102-5095.

Comment Date: 5 p.m. ET on 11/14/2011.

Docket Numbers: RP12-130-000.

Applicants: Paiute Pipeline Company.

Description: Fourth Revised Volume No. 1-A to be effective 12/2/2011.

Filed Date: 11/03/2011.

Accession Number: 20111103-5001.

Comment Date: 5 p.m. ET on 11/15/2011.

Docket Numbers: RP12-131-000.

Applicants: Guardian Pipeline, LLC.

Description: Transporter's Use Gas Correction to be effective 11/1/2011.

Filed Date: 11/03/2011.

Accession Number: 20111103-5038.

Comment Date: 5 p.m. ET on 11/15/2011.

Docket Numbers: RP12-132-000.

Applicants: Kinder Morgan Interstate Gas Transmission LLC.

Description: Negotiated Rate 2011-11-3 IT TMV to be effective 11/4/2011.

Filed Date: 11/03/2011.

Accession Number: 20111103-5139.

Comment Date: 5 p.m. ET on 11/15/2011.

Docket Numbers: RP12-133-000.

Applicants: Iroquois Gas Transmission System, L.P.

Description: 11/03/11 Negotiated Rates—Hess Corporation (HUB) to be effective 11/3/2011.

Filed Date: 11/03/2011.

Accession Number: 20111103-5146.

Comment Date: 5 p.m. ET on 11/15/2011.

Docket Numbers: RP12-134-000.

Applicants: Iroquois Gas Transmission System, L.P.

Description: 11/03/11 Negotiated Rates—Constellation Energy—RTS to be effective 11/3/2011.

Filed Date: 11/03/2011.

Accession Number: 20111103-5148.

Comment Date: 5 p.m. ET on 11/15/2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2639-001.

Applicants: Northern Border Pipeline Company.

Description: CP10-468-000 Princeton Lateral In Service on 11-1-11(B) to be effective N/A.

Filed Date: 11/02/2011.

Accession Number: 20111102-5157.

Comment Date: 5 p.m. ET on 11/14/2011.

Docket Numbers: RP12-76-001.

Applicants: East Cheyenne Gas Storage, LLC.

Description: East Cheyenne Amendment (Non-conforming agreements) to be effective 11/1/2011.

Filed Date: 11/03/2011.

Accession Number: 20111103-5003.

Comment Date: 5 p.m. ET on 11/15/2011.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 4, 2011.
Nathaniel J. Davis, Sr.,
Deputy Secretary.

[FR Doc. 2011-29258 Filed 11-10-11; 8:45 am]

BILLING CODE 6717-01-P